DEPARTMENT OF COMMERCE

Foreign-Trade Zones Board

[Order No. 1971]

Reorganization of Foreign-Trade Zone 63 Under Alternative Site Framework; Prince George's County, Maryland

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, Prince George's County, grantee of FTZ 63, submitted an application to the Board (FTZ Docket B-52-2014, docketed 07-29-2014) for authority to reorganize under the ASF with a service area that includes Prince George's County, Maryland, adjacent to the Washington-Dulles Customs and Border Protection port of entry, and FTZ 63's existing Site 1 would be categorized as a magnet site;

Whereas, notice inviting public comment was given in the Federal Register (79 FR 45177, 08-04-2014) and the application has been processed pursuant to the FTZ Act and the Board's regulations; and,

Whereas, the Board adopts the findings and recommendations of the examiner's report, and finds that the requirements of the FTZ Act and the Board's regulations are satisfied;

Now, therefore, the Board hereby orders:

The application to reorganize FTZ 63 under the ASF is approved, subject to the FTZ Act and the Board's regulations, including Section 400.13, and to the Board's standard 2,000-acre activation limit for the zone.

Signed at Washington, DC this 3rd day of April 2015.
Paul Piquado,
Assistant Secretary of Commerce for Enforcement and Compliance, Alternate Chairman, Foreign-Trade Zones Board.
Andrew McGilvray,
Executive Secretary.

[FR Doc. 2015-08585 Filed 4-13-15; 8:45 am]

BILLING CODE 3510-DS-P